DEPARTMENT OF ENERGY

Federal Energy Regulatory Commission

[Docket No. P-2169]

Tapoco Hydroelectric; Notice of Site Visit

October 16, 2003.

a. Date and Time of Site Visit: November 3 and 4, 2003, 9 a.m. to 5:30 p.m.

b. Place: All participants should meet at the office of Alcoa Power Generating Inc., Tapoco Division Office at 300 North Hall Road, Alcoa, TN 37701-2516.

c. FERC Contact: Anyone having questions about the site visit should contact Lee Emery at (202) 502-8379 or e-mail at lee.emery@ferc.gov. Participants should contact Norman Pierson at (865) 977-3326 or by e-mail at norm.pierson@alcoa.com by October 29, 2003, to make arrangements for transportation from the Alcoa Office to the project development sites. All participants are responsible for their own transportation to the Alcoa Office.

d. Purpose of site visit: The Applicant (Alcoa Power Generating, Inc.) and FERC staff will conduct a site visit to examine environmental and engineering features proposed for the Tapoco Project. All interested individuals, organizations, Indian Tribes, and agencies are invited to attend.

e. This site visit is posted on the Commission's calendar located at http://www.ferc.gov/EventCalendar/EventsList.aspx.

Magalie R. Salas,
Secretary.

[FR Doc. E3-00101 Filed 10-23-03; 8:45 am]

BILLING CODE 6717-01-P